NUCLEAR REGULATORY COMMISSION

[NRC-2011-0025]

Draft Regulatory Guide: Issuance, Availability

AGENCY: Nuclear Regulatory Commission.

ACTION: Notice of Issuance and Availability of Draft Regulatory Guide, DG-7007, “Administrative Guide for Verifying Compliance with Packaging Requirements for Shipment and Receipt of Radioactive Material.”

FOR FURTHER INFORMATION CONTACT: Bernard White, Office of Nuclear Material Safety and Safeguards, Division of Spent Fuel Storage and Transportation, U.S. Nuclear Regulatory Commission, Washington, DC 20555-0001, telephone: 1-301-492-3303 or e-mail: Bernard.White@nrc.gov.

SUPPLEMENTARY INFORMATION:

I. Introduction

The U.S. Nuclear Regulatory Commission (NRC) is issuing for public comment a draft guide in the agency's “Regulatory Guide” series. This series was developed to describe and make available to the public information such as methods that are acceptable to the NRC staff for implementing specific parts of the NRC's regulations, techniques that the staff uses in evaluating specific problems or postulated accidents, and data that the staff needs in its review of applications for permits and licenses.

The draft regulatory guide (DG), entitled “Administrative Guide for Verifying Compliance with Packaging Requirements for Shipment and Receipt of Radioactive Material,” is temporarily identified by its task number, DG-7007, which should be mentioned in all related correspondence. DG-7007 is proposed Revision 1 of Regulatory Guide 7.7, dated August 1977.

This guide describes an approach that the staff of the NRC considers acceptable for meeting the administrative requirements in Title 10, of the Code of Federal Regulations, Part 71, “Packaging and Transportation of Radioactive Material” (10 CFR Part 71). The regulations in 10 CFR Part 71 apply to NRC licensees that package, transport, or receive licensed material.

The initial version of Regulatory Guide 7.7 endorsed the guidance in the American National Standards Institute (ANSI) Standard N14.10.3-1975, “Administrative Guide for Verifying Compliance with Packaging Requirements for Shipments of Radioactive Materials,” as an acceptable process for complying with the requirements of 10 CFR 71.5, “Transportation of Licensed Material.”

The ANSI standard was withdrawn without replacement; hence, this proposed revision to Regulatory Guide 7.7 contains guidance on the administrative requirements for planning, packaging, transporting, receiving, reporting, and record keeping for shipments of radioactive materials. The staff developed and published this guidance to provide licensees with an acceptable method to satisfy the administrative requirements in 10 CFR part 71.

II. Further Information

The NRC staff is soliciting comments on DG-7007. Comments may be accompanied by relevant information or supporting data and should mention DG-7007 in the subject line. Comments submitted in writing or in electronic form will be made available to the public in their entirety through the NRC's Agencywide Documents Access and Management System (ADAMS).

ADDRESSES: You may submit comments by any one of the following methods. Please include Docket ID NRC-2011-0025 in the subject line of your comments. Comments submitted in writing or in electronic form will be posted on the NRC Web site and on the Federal rulemaking website Regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

Federal rulemaking Web site: Go to http://www.regulations.gov and search for documents filed under Docket ID NRC-2011-0025. Address questions about NRC dockets to Carol Gallagher, 301-492-3668; e-mail: Carol.Gallagher@nrc.gov.

Mail comments to: Cindy Bladey, Chief, Rules, Announcements, and Directives Branch (RADB), Office of Administration, Mail Stop: TWB-05-B01M, U.S. Nuclear Regulatory Commission, Washington, DC 20555-0001, or by fax to RADB at 301-492-3446.

You can access publicly available documents related to this notice using the following methods:

NRC's Public Document Room (PDR): The public may examine and copy for a fee publicly available documents at the NRC's PDR, Room O1-F21, One White Flint North, 11555 Rockville Pike, Rockville, Maryland 20852-2738.

NRC's Agencywide Documents Access and Management System (ADAMS): Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR reference staff at 1-800-397-4209, 301-415-4737, or by e-mail to pdr.resource@nrc.gov. The Regulatory Analysis is available electronically under ADAMS Accession Number ML101390333.

Comments would be most helpful if received by March 30, 2011. Comments received after that date will be considered if it is practical to do so, but the NRC is able to ensure consideration only for comments received on or before this date. Although a time limit is given, comments and suggestions in connection with items for inclusion in guides currently being developed or improvements in all published guides are encouraged at any time.

Electronic copies of DG-7007 are available through the NRC's public Web site under Draft Regulatory Guides in the “Regulatory Guides” collection of the NRC's Electronic Reading Room at http://www.nrc.gov/reading-rm/doc-collections/. Electronic copies are also available in ADAMS (http://www.nrc.gov/reading-rm/adams.html), under Accession No. ML101040727.

Regulatory guides are not copyrighted, and Commission approval is not required to reproduce them.

Dated at Rockville, Maryland, this 21st day of January, 2011.
For the Nuclear Regulatory Commission.
Edward O'Donnell,
Acting Chief, Regulatory Guide Development Branch, Division of Engineering, Office of Nuclear Regulatory Research.

[FR Doc. 2011-1909 Filed 1-27-11; 8:45 am]

BILLING CODE 7590-01-P